FEDERAL COMMUNICATIONS COMMISSION

47 CFR Part 73

[DA 21-446; FRS 24122]

Radio Broadcasting Services; Various Locations

AGENCY: Federal Communications Commission.

ACTION: Final rule.

SUMMARY: This document amends the FM Table of Allotments, of the Commission's rules, by reinstating certain vacant FM allotments. These FM allotments are considered vacant because of the cancellation of the associated authorizations and licenses, or the dismissal of long-form auction applications. Theses vacant FM allotments have previously undergone notice and comment rule making. Reinstatement of the vacant allotments is merely a ministerial action to effectuate licensing procedures. Therefore, we find for good cause that further notice and comment are unnecessary.

DATES: Effective May 5, 2021.

FOR FURTHER INFORMATION CONTACT: Rolanda F. Smith, Media Bureau, (202) 418-2700.

SUPPLEMENTARY INFORMATION: This is a synopsis of the Commission's Order, adopted April 19, 2021 and released April 20, 2021. The full text of this Commission decision is available online at http://apps.fcc.gov/ecfs/. This document does not contain information collection requirements subject to the Paperwork Reduction Act of 1995, Public Law 104-13. The Commission will not send a copy of the Order in a report to be sent to Congress and the Government Accountability Office pursuant to the Congressional Review Act, see 5 U.S.C. 801(a)(1)(A) because the Order is a ministerial action.

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202, the table in paragraph (b) is amended by adding in alphabetical order the following entries:

i. Under California, “Visalia”;

ii. Under Colorado, “Yampa”;

iii. Under New Mexico, “Carrizozo”;

iv. Under North Dakota, “Beulah”; and

v. Under Texas, “Girard” and “Kermit”.

The additions read as follows:

§ 73.202 Table of Allotments.

* * * * *

(b) * * *

Table 1 to Paragraph (b)
[U.S. States]
| Channel No.
* * * * *
CALIFORNIA
* * * * *
Visalia | 241A
* * * * *
COLORADO
* * * * *
Yampa | 277C3
* * * * *
NEW MEXICO
* * * * *
Carrizozo | 261C2
* * * * *
NORTH DAKOTA
Beulah | 250A
* * * * *
TEXAS
* * * * *
Girard | 248C3
* * * * *
Kermit | 289C3
* * * * *

[FR Doc. 2021-09399 Filed 5-4-21; 8:45 am]

BILLING CODE 6712-01-P